Proclamation 7962 of November 15, 2005

America Recycles Day, 2005

The President of the United States of America

A Proclamation

On America Recycles Day, we recognize the importance of recycling and using products made with recycled materials. Today, Americans recycle many items, including motor oil, tires, aluminum cans, plastic, glass, batteries, and building materials. These community efforts are designed to make a difference in our environment and help improve our quality of life.

The Federal Government is working to expand opportunities for recycling across our country. I recently signed into law the Energy Policy Act of 2005, which will increase the use of recycled materials in Federal construction projects. In addition, the Environmental Protection Agency (EPA) operates the Resource Conservation Challenge, a national effort to encourage manufacturers, businesses, and consumers to raise the national recycling rate to 35 percent. To help achieve this goal, the EPA launched the Plug-In To eCycling Campaign in cooperation with American businesses. This partnership helps increase awareness about the importance of reusing and safely recycling electronics and provides the public with additional opportunities to recycle.

Throughout the year, I encourage individuals, businesses, and government entities to participate in recycling programs in their communities. These efforts contribute to a culture of responsible citizenship and good stewardship of our natural heritage, and they can help ensure a cleaner, safer, and healthier environment for our children and grandchildren.

NOW, THEREFORE, I, GEORGE W. BUSH, President of the United States of America, by virtue of the authority vested in me by the Constitution and laws of the United States, do hereby proclaim November 15, 2005, as America Recycles Day. I call upon the people of the United States to observe this day with appropriate programs and activities.

IN WITNESS WHEREOF, I have hereunto set my hand this fifteenth day of November, in the year of our Lord two thousand five, and of the Independence of the United States of America the two hundred and thirtieth.

B

[FR Doc. 05-22982

Filed 11-16-05; 11:12 am]

Billing code 3195-01-P